DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 A.M. and 5 P.M. in Room 4211, U.S. Department of Commerce, 14th Street and Constitution Avenue, NW., Washington, DC.

Docket Number: 01-014.

Applicant: Woods Hole Oceanographic Institution, 266 Woods Hole Road, Woods Hole, MA 02543.

Instrument: (2) Low-level beta Multicounter Systems, Model GM-25-5. Manufacturer: Riso National Labs, Denmark.

Intended Use: The instrument is intended to be used for sampling the ocean at different depths to estimate carbon fluxes out of the upper water. This number is needed to plug into ocean/atmosphere models to estimate such things as global warming. Application accepted by Commissioner of Customs: June 11, 2001.

Gerald A. Zerdy,
Program Manager, Statutory Import Programs Staff.

[FR Doc. 01-16706 Filed 7-2-01; 8:45 am]

BILLING CODE 3510-DS-P